DEPARTMENT OF ENERGY

Federal Energy Regulatory Commission

[Project No. 2082-027]

PacifiCorp, Oregon and California; Notice of Availability of the Final Environmental Impact Statement for the Klamath Hydroelectric Project

November 16, 2007.

In accordance with the National Environmental Policy Act of 1969 and the Federal Energy Regulatory Commission's (Commission) regulations, 18 CFR part 380 (Order No. 486, 52 FR 47897), the Office of Energy Projects has reviewed the application for license for the Klamath Hydroelectric Project (FERC No. 2082), located primarily on the Klamath River, in Klamath County, Oregon and Siskiyou County, California, and has prepared a Final Environmental Impact Statement (final EIS) for the project. The existing project occupies 219 acres of lands of the United States, which are administered by the U.S. Bureau of Land Management or the U.S. Bureau of Reclamation.

The final EIS contains staff evaluations of the applicant's proposal and alternatives for relicensing the Klamath Hydroelectric Project. The final EIS documents the views of governmental agencies, non-governmental organizations, affected Indian tribes, the public, the license applicant, and Commission staff.

The final EIS will be part of the record from which the Commission will make its decision.

Copies of the final EIS are available for review in the Commission's Public Reference Branch, Room 2A, located at 888 First Street, NE., Washington, DC 20426. The final EIS also may be viewed on the Internet at http://www.ferc.gov under the eLibrary link. Enter the docket number (P-2082) to access the document. For assistance, contact FERC Online Support at FERCOnlineSupport@ferc.gov or toll-free at 1-866-208-3676, or for TTY, (202) 502-8659.

Kimberly D. Bose,
Secretary.

[FR Doc. E7-22832 Filed 11-21-07; 8:45 am]

BILLING CODE 6717-01-P